OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Deborah Grade, Director, Washington Services Branch, Center for Talent Services, Division for Human Resources Products and Services, (202) 606-5027.

SUPPLEMENTARY INFORMATION: Appearing in the listing below are the individual authorities established under Schedule C between October 1, 2003, and October 31, 2003. Future notices will be published on the fourth Tuesday of each month, or as soon as possible thereafter. A consolidated listing of all authorities as of June 30 is published each year.

Schedule A

No Schedule A appointments for October 2003.

Schedule B

No Schedule B appointments for October 2003.

Schedule C

The following Schedule C appointments were approved for October 2003:

Section 213.3303 Executive Office of the President

Office of Management and Budget

BOGS60004 Special Assistant to the Administrator, Office of Information and Regulatory Affairs. Effective October 08, 2003.

BOGS60034 Staff Assistant to the Director, Office of Management and Budget. Effective October 15, 2003.

BOGS60012 Confidential Assistant to the Controller, Office of Federal Financial Management. Effective October 17, 2003.

BOGS60027 Confidential Assistant to the Administrator, Office of Information and Regulatory Affairs. Effective October 27, 2003.

BOGS00039 Confidential Assistant to the Associate Director for Legislative Affairs. Effective October 31, 2003.

Office of National Drug Control Policy

QQGS00023 Confidential Assistant to the Chief of Staff. Effective October 21, 2003.

Section 213.3304 Department of State

DSGS60487 Congressional Affairs Manager to the Assistant Secretary for International Organizational Affairs. Effective October 01, 2003.

DSGS60531 Public Affairs Specialist to the Assistant Secretary for Public Affairs. Effective October 01, 2003.

DSGS60575 Writer-Editor to the Assistant Secretary for Oceans, International Environment and Science Affairs. Effective October 02, 2003.

DSGS60544 Strategic Planning Officer to the Coordinator for International Information Programs. Effective October 10, 2003.

DSGS60703 Special Assistant to the Assistant Secretary for Economic and Business Affairs. Effective October 22, 2003.

DSGS60701 Public Affairs Specialist to the Assistant Secretary for Public Affairs. Effective October 24, 2003.

DSGS60702 Special Assistant to the Deputy Chief of Protocol. Effective October 24, 2003.

DSGS60712 Special Advisor to the Assistant Legal Adviser for African Affairs. Effective October 28, 2003.

Section 213.3305 Department of the Treasury

DYGS60250 Director, Public Affairs to the Deputy Assistant Secretary (Public Affairs). Effective October 09, 2003.

Section 213.3306 Office of the Secretary of Defense

DDGS00755 Personal & Confidential Assistant to Assistant Secretary of Defense (Special Operations/Low Intensity Conflict). Effective October 02, 2003.

DDGS00756 Staff Assistant to the Deputy Assistant Secretary of Defense (Eurasia). Effective October 03, 2003.

DDGS16758 Deputy White House Liaison to the Special Assistant to the Secretary of Defense for White House Liaison. Effective October 10, 2003.

Section 213.3307 Department of the Army

DWGS00086 Special Assistant to the Army General Counsel. Effective October 08, 2003.

DWGS60075 Special Assistant to the Assistant Secretary of the Army (Installations, Logistics and Environment). Effective October 08, 2003.

Section 213.3308 Department of the Navy

DNGS60056 Confidential Assistant to the Assistant Secretary Financial Management. Effective October 16, 2003.

Section 213.3310 Department of Justice

DJGS00034 Special Assistant to the Assistant Attorney General, Criminal Division. Effective October 02, 2003.

DJGS00217 Counsel to the Director, Violence Against Women Office. Effective October 02, 2003.

DJGS00123 Senior Counsel to the Director, Office of Public Affairs. Effective October 10, 2003.

DJGS00254 Counselor to the Assistant Attorney General. Effective October 16, 2003.

DJGS00432 Senior Counsel to the Director of the Executive Office for United States Attorneys. Effective October 16, 2003.

DJGS00255 Counsel to the Assistant Attorney General. Effective October 17, 2003.

DJGS00268 Counsel to the Assistant Attorney General. Effective October 22, 2003.

DJGS00258 Counsel to the Assistant Attorney General. Effective October 30, 2003.

DJGS00380 Principal Deputy Director to the Director, Office of Public Affairs. Effective October 30, 2003.

DJGS00377 Staff Assistant to the Director, Office of Public Affairs. Effective October 31, 2003.

Section 213.3311 Department of Homeland Security

DMGS00137 Special Assistant to the Under Secretary for Information Analysis and Infrastructure Protection. Effective October 03, 2003.

DMGS00127 Director of Legislative Affairs for Secretarial Offices to the Assistant Secretary for Legislative Affairs. Effective October 06, 2003.

DMGS00141 Press Secretary to the Assistant Secretary for Public Affairs. Effective October 16, 2003.

DMGS00128 Director of Legislative Affairs for Information Analysis and Infrastructure Protection to the Assistant Secretary for Legislative Affairs. Effective October 17, 2003.

DMGS00135 Confidential Assistant to the Director, State and Local Affairs. Effective October 20, 2003.

DMGS00136 Confidential Assistant to the Director, State and Local Affairs. Effective October 20, 2003.

DMOT00138 Policy Analyst to the Administrator, Transportation Security Administration. Effective October 20, 2003.

DMGS00133 Assistant Director for Legislative Affairs to the Assistant Secretary for Legislative Affairs. Effective October 21, 2003.

DMGS00140 Senior Advisor to the Privacy Officer. Effective October 24, 2003.

DMGS00144 External Affairs Coordinator to the Chief of Staff. Effective October 24, 2003.

DMOT00139 Director of Special Projects for Transportation Security Policy to the Assistant Administrator for Transportation Security Policy. Effective October 27, 2003.

DMGS00146 Policy Advisor to the Chief of Staff. Effective October 29, 2003.

DMGS00148 Public Affairs Specialist to the Director of Communications for Information Analysis and Infrastructure Protection. Effective October 29, 2003.

DMGS00138 Deputy Assistant Secretary for Legislative Affairs (Senate) to the Assistant Secretary for Legislative Affairs. Effective October 30, 2003.

DMGS00143 Senior Advance Representative to the Chief of Staff. Effective October 30, 2003.

DMGS00150 Public Affairs Specialist to the Director of Communications for Information Analysis and Infrastructure Protection. Effective October 31, 2003

Section 213.3312 Department of the Interior

DIGS00545 Special Assistant (Communications Program Manager) to the Director, National Park Service. Effective October 03, 2003.

DIGS06077 Special Assistant—External and Intergovernmental Affairs to the Director, External and Intergovernmental Affairs. Effective October 10, 2003.

DIGS50001 Counselor to the Assistant Secretary—Indian Affairs. Effective October 10, 2003.

DIGS06078 Confidential Assistant (Press Secretary) to the Director, External and Intergovernmental Affairs. Effective October 23, 2003.

Section 213.3313 Department of Agriculture

DAGS00198 Special Assistant to the Special Assistant. Effective October 28, 2003.

Section 213.3314 Department of Commerce

DCGS60583 Special Assistant to the Assistant Secretary for Administration and Chief Financial Officer. Effective October 01, 2003.

DCGS00429 Confidential Assistant to the Director, Office of White House Liaison. Effective October 09, 2003.

DCGS00492 Confidential Assistant to the Executive Assistant. Effective October 09, 2003.

DCGS00461 Confidential Assistant to the Chief Economist and Special Advisor to the Secretary. Effective October 10, 2003.

DCGS00298 Special Assistant to the Deputy Assistant Secretary for Communications and Information. Effective October 31, 2003.

DCGS00639 Press Secretary to the Director of Public Affairs. Effective October 31, 2003.

Section 213.3315 Department of Labor

DLGS60219 Special Assistant to the Chief of Staff. Effective October 03, 2003.

DLGS60272 Special Assistant to the Director of Public Liaison. Effective October 06, 2003.

DLGS60195 Special Assistant to the Assistant Secretary for Employment Standards. Effective October 14, 2003.

DLGS60025 Senior Legislative Officer to the Assistant Secretary for Congressional and Intergovernmental Affairs. Effective October 31, 2003.

DLGS60178 Special Assistant to the Director, 21st Century Workforce. Effective October 31, 2003.

Section 213.3316 Department of Health and Human Services

DHGS60523 Executive Director, President's Council on Physical Fitness and Sports to the Assistant Secretary, Health. Effective October 06, 2003.

DHGS60026 Special Assistant to the Director, Public Affairs Office. Effective October 15, 2003.

DHGS60167 Confidential Assistant to the Assistant Secretary for Public Affairs. Effective October 27, 2003.

Section 213.3317 Department of Education

DBGS00298 Confidential Assistant to the Deputy Director of Communications, Office of Public Affairs. Effective October 16, 2003.

Section 213.3318 Environmental Protection Agency

EPGS03606 Press Secretary to the Associate Assistant Administrator for Public Affairs. Effective October 10, 2003.

Section 213.3331 Department of Energy

DEGS00380 Assistant to the Chief of Staff and Congressional Specialist to the Assistant Secretary for International Affairs. Effective October 29, 2003.

213.3332 Small Business Administration

SBGS60195 Special Assistant to the Associate Administrator for Field Operations. Effective October 17, 2003.

SBGS60011 Deputy Associate Administrator to the Associate Administrator for Communications/Public Liaison. Effective October 20, 2003.

SBGS60091 Special Assistant to the Associate Administrator for Communications/Public Liaison. Effective October 20, 2003.

SBGS60200 Special Assistant to the Deputy Associate Administrator for Congressional and Legislative Affairs. Effective October 20, 2003.

Section 213.3334 Federal Trade Commission

FTGS60006 Congressional Liaison Specialist to the Chairman. Effective October 16, 2003.

Section 213.3337 General Services Administration

GSGS00063 Director of Marketing to the Deputy Associate Administrator for Communications. Effective October 22, 2003.

GSGS60073 Special Assistant to the Chief of Staff. Effective October 31, 2003.

Section 213.3342 Export-Import Bank

EBSL00032 Senior Vice President of Congressional Affairs to the President and Chairman. Effective October 31, 2003.

Section 213.3367 Federal Maritime Commission

MCGS60006 Counsel to the Commissioner to a Member. Effective October 31, 2003.

Section 213.3382 National Endowment for the Humanities

NHGS60076 Director, We the People Office to the Deputy Chairman. Effective October 31, 2003.

Section 213.3384 Department of Housing and Urban Development

DUGS60534 Deputy Director to the Director, Center for Faith-Based and Community Initiatives. Effective October 22, 2003.

DUGS60337 Director of Media Development to the Assistant Secretary for Public Affairs. Effective October 24, 2003.

DUGS60317 Special Assistant to the Regional Director. Effective October 30, 2003.

Section 213.3391 Office of Personnel Management

PMGS00044 Executive Director to the Director. Effective October 10, 2003.

PMGS00045 Special Assistant to the Chief of Staff. Effective October 29, 2003.

Section 213.3394 Department of Transportation

DTGS60159 Special Assistant to the Associate Administrator for Policy. Effective October 10, 2003.

DTGS60292 Associate Director for Intergovernmental Affairs to the Deputy Assistant Secretary for Governmental Affairs. Effective October 10, 2003.

Section 213.3397 Federal Housing Finance Board

FBOT00005 Staff Assistant to the Chairman. Effective October 15, 2003.

Authority: 5 U.S.C. 3301 and 3302; E.O. 10577, 3 CFR 1954-1958 Comp., P. 218.

Office of Personnel Management.
Kay Coles James,
Director.

[FR Doc. 03-31575 Filed 12-22-03; 8:45 am]

BILLING CODE 6325-38-P